DEPARTMENT OF COMMERCE

International Trade Administration

A-570-890

Wooden Bedroom Furniture from the People's Republic of China: Amended Final Results of the January 1, 2007, through July 31, 2007, New Shipper Reviews

AGENCY: Import Administration, International Trade Administration, Department of Commerce.

SUMMARY: On October 31, 2008, the Department of Commerce (“Department”) published in the Federal Register the final results of the fourth new shipper reviews of the antidumping duty order on wooden bedroom furniture from the People's Republic of China (“PRC”). See Wooden Bedroom Furniture from the People's Republic of China: Final Results of Fourth New Shipper Reviews, 73 FR 64916 (October 31, 2008) (“Final Results”) and accompanying Issues and Decision Memorandum. The period of review is January 1, 2007, through July 31, 2007. We are amending our Final Results to correct ministerial errors made in the calculation of the antidumping duty margin for Dongguan Mu Si Furniture Co., Ltd. (“Mu Si”), pursuant to section 751(h) of the Tariff Act of 1930, as amended (“the Act”).

EFFECTIVE DATE: March 4, 2009.

FOR FURTHER INFORMATION CONTACT: Paul Stolz, AD/CVD Operations, Office 8, Import Administration, International Trade Administration, U.S. Department of Commerce, 14th Street and Constitution Avenue NW, Washington, DC 20230; telephone: (202) 482-4474.

SUPPLEMENTARY INFORMATION:

Background

On November 10, 2008, American Furniture Manufacturers Committee for Legal Trade and Vaughan-Basset Furniture Company, Inc. (collectively “Petitioners”), and Mu Si submitted ministerial error allegations with respect to the final results of the fourth new shipper reviews of wooden bedroom furniture from the PRC. Petitioners and Mu Si made ministerial error allegations only with respect to Mu Si's margin calculations. No interested party submitted rebuttal comments.

Ministerial Errors

A ministerial error is defined in section 751(h) of the Act and further clarified in 19 CFR 351.224(f) as “an error in addition, subtraction, or other arithmetic function, clerical error resulting from inaccurate copying, duplication, or the like, and any other similar type of unintentional error which the Secretary considers ministerial.”

After analyzing all interested parties' comments, we have determined, in accordance with 19 CFR 351.224(e), that ministerial errors existed in certain calculations for Mu Si in the Final Results. Correction of these errors results in a change to Mu Si's final antidumping duty margin. The dumping margins for Donguan Bon Ten Furniture Co., Ltd. and the PRC-wide entity remain unchanged. For a detailed discussion of these ministerial errors, as well as the Department's analysis, see the Memorandum entitled: Ministerial Error Memorandum for the Amended Final Results of 2007 New Shipper Reviews of Wooden Bedroom Furniture from the People's Republic of China, dated February 19, 2009, (“Ministerial Error Allegation Memorandum”). The Ministerial Error Allegation Memorandum is on file in the Central Records Unit, room 1117 in the main Department building.

Therefore, in accordance with section 751(h) of the Act and 19 CFR 351.224(e), we are amending the Final Results of the new shipper reviews of wooden bedroom furniture from the PRC. The revised weighted-average dumping margin is detailed below. For Mu Si-specific calculations, see “Analysis Memorandum for the Amended Final Results for Mu Si,” dated February 19, 2009. Listed below is the revised weighted average dumping margin resulting from these amended final results:

Wooden Bedroom Furniture from the PRC
Exporter/Producer | Weighted-Average Margin (Percent)
Dongguan Mu Si Furniture Co., Ltd. / Dongguan Mu Si Furniture Co., Ltd. | 8.30

Disclosure

We will disclose the calculations performed for these amended final results within five days of the date of publication of this notice to interested parties in accordance with 19 CFR 351.224(b).

Assessment Rate

The Department will determine, and U.S. Customs and Border Protection (“CBP”) shall assess, antidumping duties on all appropriate entries based on the amended final results. For details on the assessment of antidumping duties on all appropriate entries, see Final Results.

The Department intends to issue appropriate assessment instructions directly to CBP 15 days after the date of publication of these amended final results of the new shipper review.

Cash Deposit Requirements

The following cash deposit requirements will be effective retroactively on any entries made on or after October 31, 2008, the date of publication of the Final Results, for all shipments of the subject merchandise entered, or withdrawn from warehouse, for consumption on or after the publication date, as provided for by section 751(a)(2)(C) of the Act: (1) for the exporters listed above, the cash deposit rate will be the rate shown for this company (except if the rate is de minimis, i.e., less than 0.5 percent, a zero cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 216.01 percent; and (4) for all non-PRC exporters of subject merchandise which have not received their own rate, the cash deposit rate will be the rate applicable to the PRC exporters that supplied that non-PRC exporter. These deposit requirements shall remain in effect until further notice.

These amended final results are published in accordance with sections 751(h) and 777(i)(1) of the Act.

Dated: February 23, 2009.
Ronald K. Lorentzen,
Acting Assistant Secretary for Import Administration.

[FR Doc. E9-4626 Filed 3-3-09; 8:45 am]

BILLING CODE 3510-DS-S